DEPARTMENT OF THE INTERIOR

Bureau of Land Management

DEPARTMENT OF AGRICULTURE

U.S. Forest Service

[NM-220-5101-ER-G041]

Notice of Availability of Record of Decision for the Buckman Water Diversion Project Environmental Impact Statement

AGENCIES: Bureau of Land Management, Interior and USDA Forest Service.

ACTION: Notice of Availability.

SUMMARY: In accordance with the National Environmental Policy Act (NEPA) and the Federal Land Policy and Management Act (FLPMA), the Bureau of Land Management (BLM) Taos Field Office and USDA Forest Service (Forest Service), Santa Fe National Forest announce the availability of the Record of Decision (ROD) for the Buckman Water Diversion Project located near Santa Fe, New Mexico.

ADDRESSES: Copies of the ROD are available upon request from the Field Manager, Taos Field Office, Bureau of Land Management, 226 Cruz Alta Road, Taos, NM 87571, or via the internet on the following Web site: http://www.blm.gov/nm. Copies of the ROD and approved Final Environmental Impact Statement (FEIS) will also be available at the following locations: Forest Service, Santa Fe National Forest, 1474 Rodeo Road, Santa Fe, NM 87505, and Forest Service, Espanola Ranger District, 1710 North Riverside Dr., Espanola, NM 87533.

FOR FURTHER INFORMATION CONTACT: Sam Des Georges, Field Office Manager, Bureau of Land Management, Taos Field Office, 226 Cruz Alta Rd., Taos, NM 87571, telephone—(505) 751-4713; or Sanford Hurlocker, District Ranger, Forest Service, Espanola Ranger District, P.O. Box 3307, Espanola, NM 87533; telephone—(505) 753-7331. Requests for information may be submitted electronically at http://www.blm.gov/nm.

SUPPLEMENTARY INFORMATION: The Buckman Water Diversion Project (the Project) is designed to address the immediate need for accessing water supplies for the Project Applicants. The Forest Service and BLM are joint lead agencies for this project, and the Department of Interior, Bureau of Reclamation, City of Santa Fe, and Santa Fe County are cooperating agencies. The City of Santa Fe, Santa Fe County, and Las Campanas Limited Partnership are the “Project Applicants.”

The BLM's and Forest Service's decision is to authorize rights-of-way and easements to the Project Applicants so that they may construct, operate, and maintain the road improvements, major facilities and associated infrastructure, and their locations as described in the Proposed Action. In addition, several options have been selected for the proposed sediment facility and sand disposal systems; and for a section of treated water pipeline. Power upgrades to service the proposed facilities are also described in the Final Environmental Impact Statement (FEIS).

This decision conforms to existing laws and regulations, provides for resource protection and mitigation, and is consistent with the Santa Fe National Forest Plan and the Taos Resource Management Plan. This decision is based on a comparison of the potential environmental effects of the Proposed Action, other alternatives considered in the FEIS, and comments received during scoping and the 60-day public comment period on the Draft Environmental Impact Statement.

The decisions made by the Forest Service and the BLM, respectively, affect only those lands managed by each agency. The decision related to National Forest System lands is subject to administrative review (appeal) in accordance with 36 CFR 215 (June 2003). A written notice of appeal—clearly stating it is a notice of appeal being filed pursuant to 36 CFR 215.14—must be filed within 45 days from the date of publication of legal notice of this decision in the Albuquerque Journal. The publication date in the Albuquerque Journal, newspaper of record, is the exclusive means for calculating the time to file an appeal. Those wishing to appeal this decision should not rely upon dates or timeframe information provided by any other source. Individuals or organizations that submitted substantive comments during the comment period specified at 36 CFR 215.6 may appeal this decision. The notice of appeal must meet the appeal content requirements at 36 CFR 215.14. An appeal must be filed (regular mail, fax, e-mail, hand delivery, or express delivery) with the Appeal Deciding Officer. Written appeals must be submitted to: Deputy Regional Forester, Southwestern Region Appeal Deciding Officer, 333 Broadway Blvd., SE., Albuquerque, NM 87102. Appeals may be faxed or e-mailed at Fax: (505) 842-3173, and E-mail: appeals-southwestern@fs.fed.us.

The Forest Service's office business hours for those submitting hand-delivered appeals are: 8 a.m. to 4:30 p.m. Monday through Friday, excluding holidays. Electronic comments must be submitted in a format such as an e-mail message, plain text (.txt), rich text format (.rtf), Adobe (.pdf) and Word (.doc) to appeals-southwestern@fs.fed.us. The appeal must have an identifiable name attached or verification of identity will be required. A scanned signature may serve as verification on electronic appeals.

The decision related to BLM managed lands may be appealed to the Interior Board of Land Appeals, Office of the Secretary, in accordance with the regulations contained in 43 CFR 2801.10(a). If an appeal is filed, the notice of appeal must be filed with the Bureau of Land Management, Taos Field Office, Field Office Manager, 226 Cruz Alta Road, Taos, NM 87571, within 30 days of the date the notice of the decision appears in the Federal Register. If you wish to file a petition pursuant to 43 CFR 2801.10(b) for a stay (suspension) of the effectiveness of this decision during the time that your appeal is being reviewed by the Board, the petition for a stay must accompany your notice of appeal. Copies of the notice of appeal and petition for a stay must also be submitted to the Interior Board of Land Appeals and to the Regional Office of the Solicitor at the same time the original documents are filed with this office.

Dated: January 15, 2008.
Sam Des Georges,
BLM—Taos Field Office Manager.
Dated: January 15, 2008.
Steve Romero,
Acting Forest Supervisor, Santa Fe National Forest.

[FR Doc. E8-2305 Filed 2-8-08; 8:45 am]

BILLING CODE 4310-FB-P